DEPARTMENT OF STATE

[Public Notice 3851]

Future Leaders Exchange (FLEX) Computer Training of Trainers Workshop; Request for Proposals

SUMMARY: The Office of Citizen Exchanges, Division of the NIS Secondary School Initiative of the United States Information Agency's Bureau of Educational and Cultural Affairs, announces an open competition for the Computer Training of Trainers Workshop for the Future Leaders Exchange (FLEX) program. The FLEX program brings secondary students from the New Independent States (NIS) of the former Soviet Union to the U.S. for an academic year. During their time in the U.S., FLEX students live with American host families and attend U.S. high schools.

The primary goal of the Computer Training of Trainers Workshop is to train the participants to educate others in basic computer skills and Internet access. Public and private non-profit organizations meeting the provisions described in Internal Revenue Code section 26 USC 501c(3) may submit proposals to conduct a one-week workshop in Spring, 2002 to train a minimum of 30 FLEX students.

Participants will be selected from among a group of 1200 students. We anticipate the maximum grant award to be approximately $75,000. Cost sharing to maximize the number of participants will be looked at very favorably.

Program Information

The recipient of the grant is responsible for developing and conducting the Computer Training of Trainers Workshop based on guidelines set forth by the Division. The grantee organization will also have responsibility for selecting participants. Additional responsibilities include coordinating travel arrangements for each participant from his/her host community to the training site and return, and for providing room and board for students during their time at the workshop.

Background

Academic year 2001/2002 is the ninth year of the FSA/FLEX program, which now includes over 10,000 alumni. This component of the NIS Secondary School Initiative was originally authorized under the FREEDOM Support Act of 1992 and is funded by annual allocations from the Foreign Operations and Department of State appropriations. The goals of the program are to promote mutual understanding and foster a relationship between the people of the NIS and the U.S.; assist the successor generation of the NIS to develop the qualities it will need to lead in the transformation of those countries in the 21st century; and to promote democratic values and civic responsibility by giving NIS youth the opportunity to live in American society for an academic year.

Other Components

Two organizations have already been awarded grants to perform functions that include recruitment, selection, international travel of all FLEX students, and ongoing follow-up with alumni upon their return to the NIS. Additionally, “placement organizations” have been awarded grants to place FSA/FLEX students in schools and homestays for the academic year. The organization selected for the Computer Training of Trainers Workshop will need to request that each placement organization disseminate information on the workshop to all its students and assist in coordinating travel of finalists to the workshop site, and return.

Overview

Workshop participants should be selected according to computer ability, interest, and teaching potential as well as motivation to help citizens of their countries. The workshop should provide an opportunity, first and foremost, for participants to learn about teaching methodologies that will enable them to instruct others. In addition, this can serve as a venue for them to improve their computer expertise so they will be well-prepared to teach these skills to others. Participants should learn about tools they can use to teach basic computer skills, keeping in mind that some of these tools may not be available in their home countries. They should also gain an awareness of how computers can enhance societal development through communication with appropriate organizations, distance learning projects, local language web sites, etc. Particular attention should be paid to those issues that will be especially significant to people from the former Soviet Union. The program should be arranged for seven days, including arrival and departure.

Selection of workshop participants will be completed by the recipient of the grant through a merit-based, equitable selection process. Finalists must represent all 12 NIS countries.

Guidelines

The workshop should be held in Spring 2002, preferably in March or April. Proposals must effectively describe the organization's ability to accomplish the following essential components of the program:

1. Provide a Computer Training of Trainers Workshop, as described above and, preferably, at the time period indicated.

2. Include a description of the student selection process.

3. Describe training that will be provided for organization staff on NIS society and culture.

4. Provide housing and meals for the students throughout the program.

5. Arrange travel for students from their U.S. host communities to the training site, and return, in coordination with FLEX placement organizations. (Note: Students will likely be coming from as many as 30 states.) Provide ground transportation for students in the training area, including to and from airports.

6. Provide opportunities to attend cultural events in the area during non-class hours.

7. Provide staff to assist in case of medical emergencies.

8. Incorporate a program component designed to facilitate students' transition from the computer workshop to their host communities.

9. Include a description of the ways in which students will be encouraged to share what they have learned in their U.S. host communities, and to teach others when they return to their home countries. Include a plan for how returning students will interface with FLEX alumni associations that exist throughout the NIS.

10. Provide a mechanism in which participants can continue to communicate with each other upon completion of the workshop.

11. Provide tools for evaluation of the program in terms of its impact on the students and its success in fulfilling objectives, particularly the component that involves their teaching others in their home countries. Plan for continued activity to build upon program achievements without additional U.S. government support.

A competitive proposal will incorporate important elements of American/NIS culture in sessions that are largely interactive and designed to appeal to high school-age students. The program must be substantive and academic while, at the same time, paced realistically to meet the needs of young people. A strong proposal will reflect a clear, convincing agenda outlining exactly how the program will be carried out and how outcomes will be accomplished as a result of the grant. Knowledge of the current technological capacity (Internet connectivity, e-mail, hardware and software) of NIS countries is essential.

Please refer to the Program Objectives, Goals, and Implementation (POGI) section of the Solicitation Package for greater detail regarding the design of component parts as well as other program information.

Budget Guidelines

Organizations must submit proposals that arrange a program for a minimum of 30 students, but may increase the number of participants through cost sharing. Proposals that maximize the number of students will be favorably viewed. One grant will be awarded for this activity. It is estimated that the total costs of the Computer Training of Trainers Workshop will average $2,500 per NIS participant for a one-week program, including U.S. domestic travel.

Applicants must submit a comprehensive budget for the entire program. We anticipate awarding one grant for approximately $75,000. There must be a summary budget as well as breakdowns reflecting both administrative and program budgets. Please refer to the Solicitation Package for further details and for complete budget guidelines and formatting instructions.

Allowable costs for the program include the following:

(1) Transportation for participants from their host U.S. cities/towns to workshop site.

(2) Daily travel to/from workshop site location.

(3) Room and board during the time of the workshop.

(4) Rental of facilities and equipment.

(5) Fees for related activities/excursions.

(6) Honoraria for speakers/trainers, as appropriate.

(7) Supplies.

(8) Security services.

Please refer to the Solicitation Package for complete budget guidelines and formatting instructions.

Announcement Title and Number

All correspondence with the Bureau concerning this RFGP should reference the above title and number ECA/PE/C/PY-02-40.

FOR FURTHER INFORMATION, CONTACT: The Youth Programs Division, Office of Citizen Exchanges, ECA/PE/C/PY, Room 568, U.S. Department of State, 301 4th Street, SW., Washington, DC 20547, phone: 202/619-6299, fax: 202/619-5311, e-mail: <lbeach@pd.state.gov> to request a Solicitation Package. The Solicitation Package contains detailed award criteria, required application forms, specific budget instructions, and standard guidelines for proposal preparation. Please specify Bureau Program Officer Anna Mussman on all other inquiries and correspondence.

Please read the complete Federal Register announcement before sending inquiries or submitting proposals. Once the RFGP deadline has passed, Bureau staff may not discuss this competition with applicants until the proposal review process has been completed.

To Download a Solicitation Package via Internet: The entire Solicitation Package may be downloaded from the Bureau's web site at http://exchanges.state.gov/education/RFGPs. Please read all information before downloading.

Deadline for Proposals

All proposal copies must be received at the Bureau of Educational and Cultural Affairs by 5 p.m. Washington, DC time on January 14, 2002. Faxed documents will not be accepted at any time. Documents postmarked the due date but received on a later date will not be accepted. It is the responsibility of each applicant to ensure that its proposal is received by the above deadline.

Applicants must follow all instructions in the Solicitation Package. The original and seven copies of the application should be sent to: U.S. Department of State, SA-44, Bureau of Educational and Cultural Affairs, Ref.: ECA/PE/C/PY-02-40, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the organization will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals. Proposing organization should demonstrate it has experience with computer education, preferably with youth, as well as familiarity with the culture of the New Independent States (NIS) of the former Soviet Union.

6. Track Record: Proposals should demonstrate an institutional record of successful programs, including responsible fiscal management and full compliance with all reporting requirements for past Bureau grants as determined by Bureau Grant Staff. The Bureau will consider the past performance of prior recipients and the demonstrated potential of new applicants.

7. Multiplier effect/impact: Proposed programs should describe how workshop participants will be motivated and enabled to reach out to other individuals in their communities in the U.S. and in their home countries.

8. Follow-on Activities: Proposals should describe how the program will track participants to confirm that they share their knowledge and information with their U.S. communities and organize ways to teach others in their home countries.

9. Project Evaluation: Proposals should include a plan to evaluate the activity's success. A draft survey questionnaire or other technique plus description of a methodology to use to link outcomes to original project objectives are recommended. Successful applicants will be expected to submit a final report after the project has been completed.

10. Cost-effectiveness/Cost Sharing: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation of the Freedom Support Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: November 26, 2001.
Patricia S. Harrison,
Assistant Secretary for Educational and Cultural Affairs, U.S. Department of State.

[FR Doc. 01-30137 Filed 12-4-01; 8:45 am]

BILLING CODE 4710-05-P